COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List a product and a service to be furnished by nonprofit agencies employing persons who are blind or have other severe disabilities, and deletes from the Procurement List products previously furnished by such agencies.

EFFECTIVE DATE: October 20, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION

Additions

On August 2, 2002, the Committee for Purchase From People Who Are Blind or Severely Disabled published notice (67 FR 50416) of proposed additions to the Procurement List. After consideration of the material presented to it concerning capability of qualified nonprofit agencies to provide the product and service and impact of the additions on the current or most recent contractors, the Committee has determined that the product and service listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

Accordingly, the following product and service are added to the Procurement List:

Product

Product/NSN: Lewis & Clark Discovery Box

7125-00-R10-0001 (Lightweight Box).

7125-00-R10-0002 (Cabbage Box).

NPA: Development Workshop, Inc., Idaho Falls, Idaho.

Contract Activity: U.S. Army Corps of Engineers, Omaha, Nebraska.

Service

Service Type/Location: Vehicle Maintenance, Basewide, Fort Lewis, Washington.

NPA: Skookum Educational Programs, Port Townsend, Washington.

Contract Activity: USA, Intermediate Brigade Combat Team, Fort Lewis, Washington.

Deletion

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

After consideration of the relevant matter presented, the committee has determined that the product listed below is no longer suitable for procurement by the Federal Government under 41 U.S.C. 46-48c and 41 CFR 51-2.4.

Accordingly, the following product is deleted from the Procurement List:

Product

Product/NSN: Tape, Postage Meter

7530-00-912-3924.

NPA: Cincinnati Association for the Blind, Cincinnati, Ohio.

Contract Activity: Office Supplies & Paper Products Acquisition Center, New York, New York.

Sheryl D. Kennerly,
Director, Information Management.

[FR Doc. 02-23967 Filed 9-19-02; 8:45 am]

BILLING CODE 6353-01-P